DEPARTMENT OF HEALTH AND HUMAN SERVICES

Administration for Children and Families

Submission for Office of Management and Budget (OMB) Review; Refugee Data Submission System for Formula Funds Allocations and Service Analysis (ORR-5) (OMB #0970-0043)

AGENCY: Office of Refugee Resettlement, Administration for Children and Families, U.S. Department of Health and Human Services.

ACTION: Request for public comments.

SUMMARY: The Office of Refugee Resettlement (ORR), Administration for children and Families (ACF), U.S. Department of Health and Human Services (HHS), seeks an update to the existing data collection for the form ORR-5: Refugee Data Submission System for Formula Funds Allocations and Service Analysis (OMB#: 0970-0043, expiration 4/30/2024) and requests an extension of approval for three years. Minor changes to the form ORR-5 are as proposed in the description section. Since the previous comment period, there are additional minor proposed edits: an additional data element to clarify whether the initial client assessment was completed and a change to spacing in headers to improve data processing. ACF estimates the proposed changes will not increase response burden.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The ORR-5 is designed to satisfy the statutory requirements of the Immigration and Nationality Act (INA). Section 412(a)(3) of INA (8 U.S.C. 1522(a)(3)) requires that the Director of ORR make a periodic assessment of the needs of refugees for assistance and services and the resources available to meet those needs. ORR proposes an extension with minor changes to the current form to ensure continuous information collection, enabling the ORR Director to better understand client demographics, services utilized, and the outcomes achieved by clients enrolled in certain ORR-funded programs. Data elements continue to include ORR program entrance and exit dates, biographical information, referrals for services, progress made toward achieving self-sufficiency, and employment status. During the 60-day comment period (88 FR 84145) ORR received comments regarding the proposed addition of two data elements. ORR has decided to delay the addition of client email address and phone number due to recent and rapid changes to the national interagency refugee landscape and the current operational capacity of ORR-funded service providers. Since the 60-day comment period, a data element has been added to indicate whether the initial client assessment was completed and a change to spacing in headers was made to improve data processing. The data collected will inform evidence-based policy making and program design.

Respondents: States, Replacement Designees, and the District of Columbia.

Annual Burden Estimates
Instrument | Total number of respondents | Annual number of responses per respondent | Average burden hours per response | Annual burden hours
Refugee Data Submission for Formula Funds Allocations and Service Analysis (ORR-5) | 50 | 1 | 140 | 7,000

Authority: 8 U.S.C. 412(a)(3).

Mary C. Jones,
ACF/OPRE Certifying Officer.

[FR Doc. 2024-08761 Filed 4-23-24; 8:45 am]

BILLING CODE 4184-45-P